DEPARTMENT OF TRANSPORTATION

Federal Aviation Administration

14 CFR Part 39

[Docket No. FAA-2013-0354; Directorate Identifier 2011-SW-072-AD]

RIN 2120-AA64

Airworthiness Directives; Eurocopter France Helicopters

AGENCY: Federal Aviation Administration (FAA), DOT.

ACTION: Notice of proposed rulemaking (NPRM).

SUMMARY: We propose to supersede an existing airworthiness directive (AD) for Eurocopter France (Eurocopter) Model AS350B, BA, B1, B2, B3, D, AS355E, F, F1, F2, and N helicopters. The existing AD requires inspecting to determine whether a cross-member is installed at station X 2165 and doublers at X 2325 and Y 269, and installing them if they are missing. Since we issued that AD, we discovered that the applicability of the AD should be limited to those helicopters with collective-to-yaw control coupling. We also sought to revise the inspection of the tail rotor control rigging to clarify the procedures. This proposed AD would retain the requirements in the existing AD with the mentioned clarifications but would supersede it to include only those helicopters with collective-to-yaw control coupling. The actions specified by this proposed AD are intended to prevent reduced yaw control and subsequent loss of helicopter control.

DATES: We must receive comments on this proposed AD by September 3, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review a copy of service information at the FAA, Office of the Regional Counsel, Southwest Region, 2601 Meacham Blvd., Room 663, Fort Worth, Texas 76137.

FOR FURTHER INFORMATION CONTACT: Gary Roach, Aviation Safety Engineer, Regulations and Policy Group, Rotorcraft Directorate, FAA, 2601 Meacham Blvd., Fort Worth, TX 76137; telephone (817) 222-5110; email gary.b.roach@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, issued EASA Emergency AD No.: 2007-0139-E, dated May 15, 2007 (corrected May 23, 2007), to correct an unsafe condition for all Eurocopter Model AS350B, BA, BB, B1, B2, B3, D, AS355 E, F, F1, F2, and N helicopters delivered before January 1, 2007, and equipped with a collective-to-yaw control coupling. EASA advises of a report of a crack discovered in the area of the center cross-member at station X 2325, at the attachment point of the yaw channel ball-type control sheath stop, of a Model AS355N helicopter fitted with the collective-to-yaw control coupling. According to EASA, investigations revealed that the helicopter did not have the structural doublers, which are combined with the collective-to-yaw control coupling installation. EASA advises that repetitive loads on the non-modified cross member cause it to crack, which can “reduce the yaw control travel, and thus diminish the pilot's ability to control yawing of the helicopter.”

On September 23, 2010, we issued AD No. 2010-21-01, Amendment 39-16461 (75 FR 63050, October 14, 2010) for Eurocopter Model AS350B, BA, B1, B2, B3, D, AS355E, F, F1, F2, and N helicopters. AD 2010-21-01 requires within 10 hours time-in-service (TIS) or 1 month, inspecting the helicopters to determine whether a cross-member is installed at station X 2165 and doublers at X 2325 and Y 269. If the cross-member and doublers are not installed, AD 2010-21-01 requires inspecting for a crack in the center cross-member, and replacing the center cross-member if there is a crack before further flight. If a crack does not exist, AD 2010-21-01 requires inspecting the tail rotor control rigging before further flight. Lastly, if needed, AD 2010-21-01 requires installing a cross-member and two doublers within 55 hours TIS. AD 2010-21-01 was prompted by a report of a crack discovered in the area of the center cross-member, as advised in the EASA AD. These actions are intended to prevent a crack in the center cross-member, which can result in reduced yaw control and subsequent loss of helicopter control.

Actions Since Existing AD Was Issued

Since we issued AD 2010-21-01 (75 FR 63050, October 14, 2010), we discovered that we included all helicopters in the existing AD applicability rather than limiting it to only those helicopters with collective-to-yaw control coupling. Therefore, this action would retain the requirements in AD 2010-21-01 with some revisions for the inspection of the tail rotor control rigging to clarify those procedures. This proposed AD would reduce the applicability to only those Model AS350 and AS355 helicopters with collective-to-yaw control coupling installed.

FAA's Determination

These helicopter models are manufactured in France and are type certificated for operation in the United States under the provisions of 14 CFR 21.29 and the applicable bilateral agreement. Pursuant to the applicable bilateral agreement, EASA has kept the FAA informed of the situation described above. The FAA has examined EASA's findings, reviewed all available information, and determined that AD action is necessary for products of these type designs that are certificated for operation in the United States.

We are proposing this AD because we evaluated all known relevant information and determined that an unsafe condition is likely to exist or develop on other products of these same type designs.

Related Service Information

We reviewed Eurocopter Emergency Alert Service Bulletin (EASB), Revision 0, dated April 11, 2007, that contains three different numbers (Nos. 53.00.37, 53.00.11, and 53.00.23) for Eurocopter Model 350, 355, 550, and 555 helicopters. EASB No. 53.00.37 relates to two Model 350 (350 BB and 350 L1) helicopters that are not type certificated in the United States. EASB No. 53.00.11 relates to four Model 550 and six Model 555 military helicopters that are not type-certificated in the United States. The EASB describes procedures for checking the conformity for the cross member at X 2325 under the cabin floor. The actions in the EASA AD are intended to correct the same unsafe condition as that identified in the service bulletin.

Proposed AD Requirements

This proposed AD would retain the requirements of AD No. 2010-21-01 (75 FR 63050, October 14, 2010) for inspecting applicable helicopters to determine if a cross-member and doublers are installed and if a crack exists in the center cross-member, replacing any unairworthy center cross-member with an airworthy center cross-member, inspecting the tail rotor control rigging, and installing a cross-member and two doublers if not installed. This proposed AD would reduce the applicability to only those Model AS350 and AS355 model helicopters with collective-to-yaw control coupling installed. With a reduction in applicability in this proposed AD, the cost of compliance would differ. This proposed AD also clarifies the appropriate corrective action resulting from the tail rotor control rigging inspection.

Differences Between the Proposed AD and the EASA AD

This proposed AD differs from the EASA AD as follows:

• We would require installation of the cross-member at station X 2165 and the two doublers at stations X 2325 and Y 269 within 55 hours time-in-service. The EASA AD requires that this action be accomplished within 12 months.

• We would not require repetitive inspections if no crack exists in the center cross-member, whereas the EASA AD does.

• We do not include military model helicopters in the applicability.

Costs of Compliance

We estimate that this proposed AD would affect 72 helicopters of U.S. Registry and that labor costs would average $85 a work-hour. It would take about one work-hour to perform the inspections, and if needed, to install the cross-member, two doublers and an airworthy center-cross member. Required parts would cost about $161 per helicopter. Based on these figures, we estimate the cost of the proposed AD to be $246 per helicopter and $17,712 for the fleet if all repairs are needed.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2010-21-01 (75 FR 63050, October 14, 2010), and adding the following new AD:

Eurocopter France: Docket No. FAA-2013-0354; Directorate Identifier 2011-SW-072-AD.

(a) Applicability

This AD applies to Eurocopter France Model AS350B, BA, B1, B2, B3, D, AS355E, F, F1, F2, and N helicopters with collective-to-yaw control coupling, part number 350A27-2178-04, 350A27-2178-06, or 350A27-2178-0601, certificated in any category.

(b) Unsafe Condition

This AD defines the unsafe condition as reduced yaw control travel, which could result in loss of control of the helicopter.

(c) Affected ADs

This AD supersedes AD 2010-21-01, Amendment 39-16461 (75 FR 63050, October 14, 2010).

(d) Comments Due Date

We must receive comments by September 3, 2013.

(e) Compliance

You are responsible for performing each action required by this AD within the specified compliance time unless it has already been accomplished prior to that time.

(f) Required Actions

(1) Within 10 hours time-in-service (TIS) or within one month, whichever occurs first, determine whether the cross-member (numbered “1”) at station X 2165 and the two doublers (numbered “2” and “3”) at stations X 2325 and Y 269 are installed as shown in Figure 1 of Eurocopter Emergency Alert Service Bulletin (EASB) No. 53.00.37, Revision 0, dated April 11, 2007 (EASB 53.00.37), for Model AS350 helicopters and EASB No. 53.00.23, Revision 0, dated April 11, 2007 (EASB 53.00.23), for Model AS355 helicopters.

(2) If the cross-member (numbered “1”) and doublers (numbered “2” and “3”) are not installed, before further flight, inspect for a crack in the center cross-member (numbered “4”) in the area around the attachment point of the tail rotor directional ball-type control as shown in Figure 1 of EASB 53.00.37 for Model AS350 helicopters or EASB 53.00.23 for Model AS355 helicopters.

(i) If a crack exists, before further flight, replace the unairworthy center cross-member (Numbered “4”) with an airworthy center cross-member as described in paragraph (f)(3) of this AD.

(ii) If a crack does not exist, before further flight, inspect the tail rotor control rigging to determine whether it meets conformity limits.

(A) If all items of the tail rotor control rigging are found within conformity limits, install the cross-member and doublers as described in paragraph (f)(3) of this AD.

(B) For any items of the tail rotor control rigging found outside of conformity limits, perform appropriate corrective action in accordance with FAA-accepted procedures, and install the cross-member and doublers as described in paragraph (f)(3) of this AD.

(3) Within 55 hours TIS, if the cross member (Numbered “1”) is not installed, install the cross-member at station X 2165 and the 2 doublers (Numbered “2” and “3”) at stations X 2325 and Y 269 by following the Appendix, the referenced figures 2 and 3 of EASB 53.00.37 for Model AS350 helicopters or EASB 53.00.23 for Model AS355 helicopters.

(g) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, TX 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

The subject of this AD is addressed in European Aviation Safety Agency (EASA) Emergency AD No. 2007-0139-E, dated May 15, 2007 (corrected May 23, 2007). You may view the EASA AD at http://www.regulations.gov by searching for and locating it in Docket No. FAA-2013-0354.

(i) Subject

Joint Aircraft Service Component (JASC) Code: 5320, Fuselage Miscellaneous Structure.

Issued in Fort Worth, Texas, on April 11, 2013.
Lance T. Gant,
Acting Directorate Manager, Rotorcraft Directorate, Aircraft Certification Service.

[FR Doc. 2013-15961 Filed 7-2-13; 8:45 am]

BILLING CODE 4910-13-P